DEPARTMENT OF HOMELAND SECURITY

U.S. Customs and Border Protection

[Docket No. USCBP-2018-0026]

Commercial Customs Operations Advisory Committee (COAC)

AGENCY: U.S. Customs and Border Protection (CBP), Department of Homeland Security (DHS).

ACTION: Committee management; notice of Federal Advisory Committee meeting.

SUMMARY: The Commercial Customs Operations Advisory Committee (COAC) will hold its public meeting on Wednesday, August 1, 2018 via webinar. The meeting will be open to the public.

DATES: The COAC will meet on Wednesday, August 1, 2018 from 1:00 p.m. to 4:00 p.m. EST. Please note that the meeting may close early if the committee has completed its business.

ADDRESSES: The meeting will be held via webinar. The webinar link and conference phone number will be provided to all registrants by 5:00 p.m. on July 31, 2018. For information on services for individuals with disabilities or to request special assistance at the meeting, contact Ms. Florence Constant-Gibson, Office of Trade Relations, U.S. Customs & Border Protection, at (202) 344-1440 as soon as possible.

Pre-Registration: Members of the public who plan to attend the meeting, please register online at: https://teregistration.cbp.gov/index.asp?w=137 by 4 p.m. EST, July 31, 2018. Please feel free to share this information with other interested members of your organization or association.

Members of the public who are pre-registered to attend via webinar and later need to cancel, please do so by 9:00 a.m. EST on August 1, 2018 utilizing the following link: https://teregistration.cbp.gov/cancel.asp?w=137.

To facilitate public participation, we are inviting public comment on the issues the committee will consider prior to the formulation of recommendations as listed in the Agenda section below.

Comments must be submitted in writing no later than 5:00 p.m. EST on July 31, 2018, and must be identified by Docket No. USCBP-2018-0026, and may be submitted by one (1) of the following methods:

• Federal eRulemaking Portal: https://www.regulations.gov. Follow the instructions for submitting comments.

• Email: tradeevents@dhs.gov. Include the docket number in the subject line of the message.

• Fax: (202) 325-4290, Attention Florence Constant-Gibson.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2018-0026) for this action. Comments received will be posted without alteration at https://www.regulations.gov. Please do not submit personal information to this docket.

Docket: For access to the docket or to read background documents or comments, go to https://www.regulations.gov and search for Docket Number USCBP-2018-0026. To submit a comment, click the “Comment Now!” button located on the top-right hand side of the docket page.

There will be multiple public comment periods held during the meeting on August 1, 2018. Speakers are requested to limit their comments to two (2) minutes or less to facilitate greater participation. Contact the individual listed below to register as a speaker. Please note that the public comment period for speakers may end before the time indicated on the schedule that is posted on the CBP web page, https://www.cbp.gov/trade/stakeholder-engagement/coac.

FOR FURTHER INFORMATION CONTACT: Ms. Florence Constant-Gibson, Office of Trade Relations, U.S. Customs and Border Protection, 1300 Pennsylvania Avenue NW, Room 3.5A, Washington, DC 20229; telephone (202) 344-1440; facsimile (202) 325-4290; or Mr. Bradley Hayes, Executive Director, Office of Trade Relations and Designated Federal Officer for COAC at (202) 344-1440.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Agenda

The Designated Federal Officer will introduce the newly appointed, re-appointed, and alternate COAC members. The COAC will also hear from the following subcommittees on the topics listed below and then will review, deliberate, provide observations, and formulate recommendations on how to proceed:

1. The Exports Subcommittee will discuss a path forward for its work and the work of the Export Manifest Working Group for the 15th Term COAC. There will also be an update on the automated export manifest pilots, and on progress in implementing a post-departure filing pilot as part of the ocean pilot.

2. The Trusted Trader Subcommittee will present an update from the C-TPAT Minimum Security Criteria Working Group on its recommendation regarding CBP's plans to roll out new C-TPAT criteria. The subcommittee will also provide an update on the progress on the Trusted Trader Strategy and the formation of a new Trade Compliance Working Group.

3. The Trade Modernization Subcommittee will discuss the progress of the Regulatory Reform Working Group's efforts to identify and prioritize areas of regulations administered by CBP which can be reformed and the Foreign Trade Zone Regulations Working Group. In addition, the subcommittee will discuss the progress being made in the E-Commerce Working Group.

4. The Trade Enforcement and Revenue Collection (TERC) Subcommittee will provide updates from the Anti-Dumping/Countervailing Duties (AD/CVD), Bond, Forced Labor and Intellectual Property Rights Working Groups and will also speak to the lessons learned from the risk-based bonding tabletop exercise.

Meeting materials will be available by July 31, 2018 at: http://www.cbp.gov/trade/stakeholder-engagement/coac/coac-public-meetings.

Dated: July 11, 2018.
Bradley F. Hayes,
Executive Director, Office of Trade Relations.

[FR Doc. 2018-15107 Filed 7-13-18; 8:45 am]

BILLING CODE 9111-14-P